DEPARTMENT OF HEALTH AND HUMAN SERVICES

Centers for Disease Control and Prevention

[60Day-FY-2020; Docket No. CDC-2020-0055]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled Preventive Health and Health Services Block Grant. The PHHS Block Grant allows awardees to prioritize the use of funds to fill funding gaps in programs that deal with leading causes of death and disability, as well as the ability to respond rapidly to emerging health issues, including outbreaks of food-borne infections and water-borne diseases.

DATES: CDC must receive written comments on or before July 20, 2020.

ADDRESSES: You may submit comments, identified by Docket No. CDC-2020-0055, by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Preventive Health and Health Services Block Grant (OMB Control No. 0920-0106, Exp. 08/31/2022)—Revision—Center for State, Tribal, Local, and Territorial Support (CSTLTS), Centers for Disease Control and Prevention (CDC).

Background and Brief Description

CDC's Center for State, Tribal, Local, and Territorial Support (CSTLTS) plays a vital role in helping health agencies work to enhance their capacity and improve their performance to strengthen the public health system on all levels. CSTLTS is CDC's primary connection to health officials and leaders of state, tribal, local, and territorial public health agencies, as well as to other government leaders who work with health departments.

CSTLTS administers the Preventive Health and Health Services (PHHS) Block Grant funding for health promotion and disease prevention programs. Sixty-one awardees (50 states, the District of Columbia, two American Indian tribes, five U.S. territories, and three freely associated states) receive block grant funds to address locally defined public health needs in innovative ways. The PHHS Block Grant allows awardees to prioritize the use of funds to fill funding gaps in programs that deal with leading causes of death and disability, as well as the ability to respond rapidly to emerging health issues, including outbreaks of food-borne infections and water-borne diseases. CSTLTS ensures that the CDC PHHS Block Grant Program Manager and recipients account for funds in accordance with legislative mandates. Each awardee is required to submit a work plan with its selected health outcome objectives, as well as descriptions of the health problems, identified target populations (including portions of those populations disproportionately affected by the health problems), and activities to be addressed in the planned work. CDC will use the Block Grant Information System to collect recipient data, monitor awardees' progress, identify activities and personnel supported with Block Grant funding, conduct compliance reviews of Block Grant awardees, and promote the use of evidence-based guidelines and interventions.

CDC requests OMB approval for revision to an existing information collection request to accommodate the needed updates to the system and templates used to collect the information. As specified in the authorizing legislation, CDC currently collects information from Block Grant awardees to monitor their objectives and activities. Awardees will submit information on the following:

Recipient information: Unique identifying information about each recipient.

Work plan: Information about objectives, activities, and the populations to be addressed each year.

Annual Progress Report: Information about success and progress toward meeting health objectives.

Since 2008, CDC has collected this information using a web-based electronic system, the Block Grant Management Information System (BGMIS). Beginning with the FY2021 award, CDC will be using a new information management system, the Block Grant Information System (BGIS) to collect this information. The new system will collect substantially the same information as the old system but will offer a variety of updates and improvements. Examples of improvements include updated technological infrastructure, updated Healthy People Objectives (from 2020 to 2030) for awardees to use when planning programs, usability improvements, and redesigned instruments to capture data in more useful formats for both the recipients and reporting purposes.

The respondent universe will include PHHSBG Block Grant Coordinators (n=61). All modules will be accessed electronically through the BGIS system. The total annualized estimated burden is 1,525 hours.

Estimated Annualized Burden Hours
Form name | Type of respondents | Number of respondents | Number of responses per respondent | Average burden per response (in hours) | Total burden (in hours)
Recipient Information | PHHS Block Grant Coordinator | 61 | 1 | 2 | 122
Work Plan | PHHS Block Grant Coordinator | 61 | 1 | 12 | 732
PHHS Block Annual Progress Report | PHHS Block Grant Coordinator | 61 | 1 | 11 | 671
Total |  |  |  |  | 1,525

Jeffrey M. Zirger,
Lead, Information Collection Review Office, Office of Scientific Integrity, Office of Science, Centers for Disease Control and Prevention.

[FR Doc. 2020-11000 Filed 5-20-20; 8:45 am]

BILLING CODE 4163-18-P